ENVIRONMENTAL PROTECTION AGENCY

[OPP-00711; FRL-6775-7]

FY2001 Tribal Pesticide Water Quality Project Solicitation; Notice of Availability of Funds

AGENCY: Environmental Protection Agency (EPA).

ACTION: Notice.

SUMMARY: The Office of Pesticide Programs (OPP), in coordination with the EPA Regions, is soliciting Tribal pesticide water quality projects for FY2001 funding. The total amount of funding available in FY2001 to be awarded to tribal governments and/or intertribal consortia for pesticide-water quality projects is $245,500.

DATES: Project proposals, identified by docket control number OPP-00711, must be received by EPA Regional staff on or before May 15, 2001.

ADDRESSES: Applications may be submitted by mail or electronically. Please follow the detailed instructions for each method as provided in Unit I. of the SUPPLEMENTARY INFORMATION. To ensure proper receipt by EPA, it is imperative that you identify docket control number OPP-00711 in the subject line on the first page of your response.

FOR FURTHER INFORMATION CONTACT: Regina Langton, Office of Pesticide Programs, Environmental Protection Agency, 1200 Pennsylvania Ave., NW., Washington, DC 20460; telephone number: (703) 305-7161; fax number: (703) 308-1850; e-mail address: langton.regina@epa.gov.

SUPPLEMENTARY INFORMATION:

I. General Information

A. Does this Action Apply to Me?

This action is directed to any federally-recognized tribal government or intertribal consortia eligible to receive Federal funds. Only one water quality project application may be submitted by each Tribal government or intertribal consortia.

If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. You may also access this document on the Home page for the Office of Pesticide Programs at http://www.epa.gov/pesticides. Select “What's New”.

C. How and to Whom Do I Submit an Application?

You may submit comments through the mail or electronically to the EPA Tribal Pesticide staff in your Region, as listed below. To ensure proper receipt by EPA, it is imperative that you identify docket control number OPP-00711 in the subject line on the first page of your response.

1. EPA Region 1

Rob Koethe

John F. Kennedy Federal Building (CPT)

One Congress Street

Suite 1100

Boston, MA 02114-2023

(617) 918-1535

koethe.robert@epa.gov

2. EPA Region 2

Adrian Enache

U.S. EPA Facilities

Raritan Depot

2890 Woodbridge Avenue

Edison, NJ 08837-3679

(732) 321-6769

enache.adrian@epa.gov

3. EPA Region 3

Fatima El Abdaoui

1650 Arch Street (3WC32)

Philadelphia , PA 19103-2029

(215) 566-2129

el-abdaoui.fatima@epa.gov

4. EPA Region 4

Jeaneanne Gettle

61 Forsyth Street, S.W. (4APT-PS)

Atlanta, GA 30303

(404) 562-8979

gettle.jeaneanne@epa.gov

5. EPA Region 5

Meonii Crenshaw

77 West Jackson Boulevard (DRT8J)

Chicago, IL 60604-3507

(312) 353-4716

crenshaw.meonii@epa.gov

6. EPA Region 6

Jerry Collins

1445 Ross Avenue

Suite 1200

Dallas, TX 75202.2733

(214) 665-7562

collins.jerry@epa.gov

7. EPA Region 7

John Tice

100 Centennial Mall N.

Room 289

Lincoln, NB 68508

(402) 471-5080

tice.john@epa.gov

8. EPA Region 8

Ron Schiller

999 18th Street (8-P-TA)

Suite 500

Denver, CO 80202-2466

(303) 312-6017

schiller.ron@epa.gov

9. EPA Region 9

Marcy Katzin

75 Hawthorne Street (CMD-4-3)

San Francisco, CA 94105

(415) 744-1097

katzin.marcy@epa.gov

10. EPA Region 10

Gary McRae

Idaho Operations Office

1435 North Orchard Street

Boise, ID 83706

(208) 378-5765

mcrae.gary@epa.gov

D. What Should I Consider as I Prepare My Water Quality Project Proposal for EPA?

1. Scope and purpose of the Office of Pesticide Programs' tribal water quality pesticide cooperative agreements. The purpose of tribal pesticide water quality project cooperative agreements is to provide financial assistance to eligible tribal governments or intertribal consortia that are working on or plan to carry out projects in support of the development and implementation of a pesticide program to protect water quality. Funds can be used for new activities or to further an existing eligible project.

These funds may be used to help develop or advance the Tribe's program to address pesticides and water quality issues. Tribes may focus on their specific needs, as related to ground or surface water quality.

2. Eligible applicants and activities—i. who may submit applications and may an applicant submit more than one? Any federally-recognized tribal government or intertribal consortia eligible to receive Federal funds may submit an application. Only one water quality project application may be submitted by each Tribal government or intertribal consortia. (See notice for Special Project Solicitation published elsewhere in this issue of the Federal Register.)

ii. What types of water quality projects are eligible for funding? The Agency will consider projects that support the development or implementation of a pesticide program to protect water resources. These may include but are not limited to products such as the following: Work products focused on monitoring, either surface or ground water, which can support a variety of programs and goals. For example, monitoring could be valuable in: (1) assessing dietary exposure to pesticides via drinking water, (2) determining those water bodies that may be impaired due to pesticides, (3) predicting potential exposure to endangered and threatened aquatic species, or (4) establishing a baseline of contamination from which to measure progress in the future. Work may also focus on information gathering and development such as undertaking a vulnerability assessment, determining the pesticides that are most likely to impact water quality, and/or providing information to pesticide users on ways they can assist in ensuring quality water sources. Finally, work may also focus on the development or implementation of programs aimed at preventing contamination of water sources or mitigating already contaminated water sources.

Special Project proposals will not be considered under this solicitation, but may be submitted in accordance with the FY2001 Tribal Special Projects Solicitation. (See Notice for Special Project Solicitation published elsewhere in this issue of the Federal Register.)

iii. How much money may be requested, and are matching funds required? Maximum funding awarded will not exceed $50,000 per project. Applicants should note that a 15% match for pesticide water quality funds is recommended. Tribal monies or “in-kind services” may be used as the 15% match. Indirect cost rates will not increase the $50,000 maximum funding amount.

3. Application requirements— i.what is required for applications? In order to be considered for funding, applicants must submit the following to the regional tribal pesticide staff contact:

a. A water quality Project Proposal (maximum 6 pages of narrative), including:

A. Name of Project

B. Tribal Project Contact

C. Project Description, including:

• Purpose and Goal(s) of the Project

• New or continuing project

• Environmental or Health Issues Addressed

• Approach and Methods (How the project will be carried out)

• Expected/Desired Outcome

• Indicators/Measures of Success

• Resources and Time Frame Required for Project, including beginning and ending dates

D. Need for Assistance

Provide the following information to the extent it relates to and is relevant to demonstrating the need for the specific project that is proposed:

• A list of other sources of funding that you have sought for the project

• A description of similar, identical, or otherwise relevant work that you have undertaken, including sources of funding for that work

• A description of studies, surveys and other sources of information that document the environmental issues that will be addressed by the project.

E. Responsible Parties and Location

• Identify persons in charge of the project

• Identify major participants in the project

• Identify location(s) where project will be conducted

F. External Stakeholders

• Identify those affected by the project and how they will be affected

• Identify those who will participate in the project and their roles

G. Resources

Identify any personnel and/or contractors to be involved in the project, including their role and qualifications. Description should include any relevant training or experience the persons(s) has in writing a Sampling and Analysis Plan for a project, in conducting soil or water sampling, etc.

• Identify existing resources/information that will be used in conducting project

• Identify any additional resources (including but not limited to training) that will be required for project

• Describe any EPA training or assistance that will be required for tribal personnel who will be working on the project. Such training may include the development of outreach material or a Sampling Analysis Plan, sampling, etc.

H. Infrastructure and Coordination

• Identify coordination efforts required to conduct project, within or outside tribe

• Identify ways in which this project will affect tribal capacity

• Identify any assistance you may require in coordinating with other Federal, State or local agencies

ii. Draft workplan (1-2 pages). The submitted draft workplan should outline: (1) the separate phases of the project; (2) the tasks associated with each phase of the project; (3) the time frames for completion of each phase or task; (4) the name and title of the person(s) who will conduct each phase or task, and (5) the dates when progress reports will be provided to EPA. Project costs cannot be incurred until a final workplan has been approved by the appropriate EPA Regional office.

iii. Estimated budget. The estimated budget should outline estimated costs for personnel, fringe benefits, travel, equipment, supplies, contractual, indirect cost rate, or any other estimated costs associated with the proposed project.

iv. Letter or resolution from Tribal Council or Chairperson showing support for and commitment to the project. (If it is not possible to obtain a letter/resolution from the tribal council or chairperson to submit with your project proposal, an interim letter of explanation must be included with the proposal. The letter/resolution will still be required prior to project award.)

v. Letter of confirmation for any matching funds needed to complete the project. If your proposal requires the use of matching funds, please include a letter from the funding source confirming that these monies are available for the project. If the budget includes a tribal in-kind match, a letter of confirmation is not needed.

4. When and where must applications be submitted? The applicant must submit/mail one signed original application and one copy of the application. The application and copy must be received by the EPA Regional contact listed in Section C of this document no later than close of business May 15, 2001. Incomplete or late proposals will be disqualified for funding consideration.

5. Process for awarding cooperative agreements—i. How will Applications be Reviewed and Selected? Tribal project proposals will be reviewed and approved for completeness by each respective region and then forwarded through OPP, along with comments, to a review team. The review team will consist of OPP and Regional staff members. The team will consult with Regional staff regarding their comments as necessary. If there is money left over after the selection process is completed, the review team will discuss and determine the allocation of the money. Selections will be made by close of business June 15, 2001.

ii. How will Applicants be Notified? Regions will notify their respective applicants of the selections. Those applicants not awarded funds may request an explanation from their regional staff.

6. Criteria for awarding water quality project cooperative agreements. Criteria on which the water quality project proposals will be ranked and selected are listed below. Applicants must submit information specified in this solicitation to address the award criteria. Applicants must also provide information specified in this solicitation that will assist both a tribe and EPA in assessing the tribe's capacity to do the water quality project work outlined in the project proposal. The information will not be used when ranking the proposals; however, it will help EPA determine the appropriateness of the workplan and budget estimate provided. For example, if a tribe does not have personnel experienced in sampling, then training might be warranted. This in turn can leave less time for actual sampling or completing other aspects of the proposal. The workplan and budget should reflect the training and the work that can realistically be accomplished.

i. Environmental issues addressed. What are the environmental and human health issues addressed by the proposed project? What are the environmental and human health issues related to pesticides in water quality? 0 to 20 points

ii. Outcome/justification. What is the potential outcome of the project? What are the benefits of conducting this project? Does the project have limited or broad application to address risk related to pesticides in water quality? Is the project proposal thoroughly and clearly written? 0 to 20 points

iii. Impact assessment/indicators. How will you evaluate the success of the project in terms of measurable environmental results? Does the project propose to quantify and measure its success? 0 to 10 points

iv. Resources and time frame required for project. Can the project be accomplished with available or existing resources (tribal or non-tribal) and within the identified time frame? 0 to 10 points

v. Major participants/external stakeholders. Has the tribe identified the need for other parties (tribal or non-tribal) who will be involved or who will participate in the project? Who will be affected by the outcome of the project? 0 to 10 points

vi. Coordination/capacity building. Has the tribe identified the need to coordinate with outside communities, Federal, State or local government? Will the project help build tribal infrastructure or capacity? What coordination will be necessary between tribal departments, offices, etc.? 0 to 5 points

Total possible points: 75

7. Post selection activity. Selected applicants must formally apply for receipt of funds through the appropriate EPA Regional office. In addition, selected applicants must negotiate a final workplan including reporting requirements with the designated EPA Regional project officer. For more general information on post award requirements and the evaluation of grantee performance, see 40 CFR part 31.

II. What Action is the Agency Taking?

The Office of Pesticide Programs (OPP), in coordination with the EPA Regions, is soliciting Tribal pesticide water quality projects for FY2001 funding. The total amount of funding available in FY2001 to be awarded to tribal governments and/or intertribal consortia for pesticide water quality projects is $245,500.

III. Statutory Authority and Regulations

Sections 23(a) of the Federal Insecticide, Fungicide and Rodenticide Act (FIFRA) authorize EPA to enter into cooperative agreements with States and Indian Tribes to implement pesticide enforcement programs. Pursuant to the Departments of Veterans Affairs and Housing and Urban Development, and Independent Agencies Appropriations Act for fiscal year 1999, pesticide program implementation grants under section 23(a)(1) of FIFRA are available for “pesticide program development and implementation, including enforcement and compliance activities.”

The award and administration of these grants will be governed by the Uniform Administrative Requirements for Grants and Cooperative Agreements to State and Local Governments set forth at 40 CFR part 31.

IV. Submission to Congress and the Comptroller General

Under the Agency's current interpretation of the definition of a “rule ”, grant solicitations such as this which are competitively awarded on the basis of selection criteria, are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule ” as defined by 5 U.S.C. 804(2).

List of Subjects

Environmental protection, Grants, Water quality.

Dated: March 7, 2001.
Anne E. Lindsay,
Director, Field and External Affairs Division, Office of Pesticide Programs.

[FR Doc. 01-6718 Filed 3-16-01; 8:45 a.m.]

BILLING CODE 6560-50-S